INTERNATIONAL TRADE COMMISSION

Sunshine Act Meeting

AGENCY HOLDING THE MEETING: United States International Trade Commission

TIME AND DATE: August 2, 2000 at 2 p.m.

PLACE: Room 101, 500 E Street S.W., Washington, DC 20436, Telephone: (202) 205-2000.

STATUS: Open to the public.

MATTERS TO BE CONSIDERED:

1. Agenda for future meeting: none.

2. Minutes.

3. Ratification List.

4. Inv. Nos. 731-TA-860 (Final)(Tin-and Chromium-Coated Steel Sheet from Japan)—briefing and vote. (The Commission is currently scheduled to transmit its determination to the Secretary of Commerce on August 9, 2000.)

5. Inv. No. 731-TA-856 (Final) (Certain Ammonium Nitrate from Russia)—briefing and vote. (The Commission is currently scheduled to transmit its determination to the Secretary of Commerce on August 14, 2000.)

6. Outstanding action jackets: none.

In accordance with Commission policy, subject matter listed above, not disposed of at the scheduled meeting, may be carried over to the agenda of the following meeting.

Issued: July 21, 2000.
By order of the Commission:
Donna R. Koehnke,
Secretary.

[FR Doc. 00-19036 Filed 7-24-00; 3:35 pm]

BILLING CODE 7020-02-P